DEPARTMENT OF HOUSING AND URBAN DEVELOPMENT

[Docket No. FR-7070-N-30]

30-Day Notice of Proposed Information Collection: Family Report, MTW Family Report, MTW Expansion Family Report; OMB Control No. 2577-0083

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: July 7, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Colette Pollard, Reports Management Officer, REE, Department of Housing and Urban Development, 7th Street SW, Room 8210, Washington, DC 20410; email Colette Pollard at PaperworkReductionActOffice@hud.gov or telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in Section A. The Federal Register notice that solicited public comment on the information collection for a period of 60 days was published on February 28 2023 at 88 FR 8301.

A. Overview of Information Collection

Title of Information Collection: Family Report, MTW Family Report, MTW Expansion Family Report.

OMB Approval Number: 2577-0083.

Type of Request: Revision of a currently approved collection.

Form Number: Form HUD-50058 Family Report, HUD-50058 MTW Family Report, Form HUD-50058 MTW Expansion Family Report.

Description of the need for the information and proposed use: The Office of Public and Indian Housing of the Department of Housing and Urban Development (HUD) provides funding to public housing agencies (PHAs) to administer assisted housing programs. Form HUD-50058, Form HUD-50058 MTW, and Form HUD-50058 MTW Expansion Family Reports solicit demographic, family profile, income, and housing information on the entire nationwide population of tenants residing in assisted housing. The information collected through the Form HUD-50058 will be used to monitor and evaluate the Public Housing, Section 8 Housing Choice Voucher, Section 8 Project-Based Vouchers, and Section 8 Moderate Rehabilitation programs. The information collected through the Form HUD-50058 MTW will be used to monitor and evaluate current Moving to Work (MTW) PHAs participating in the MTW Demonstration program which includes the Public Housing, Section 8 Housing Choice Voucher, and Section 8 Project-Based Vouchers programs. The information collected through the Form HUD-50058 MTW Expansion will be used to monitor and evaluate the expansion MTW PHAs (PHAs designated as MTW pursuant to the 2016 Expansion Statute, Section 239 of the Fiscal Year 2016 Appropriations Act, Pub. L. 114-113), that are participating in the MTW Demonstration program, which includes the Public Housing, Section 8 Housing Choice Voucher, Section 8 Project-Based Vouchers, Local, Non-Traditional Property-Based, and Local, Non-Traditional Tenant-Based programs.

Tenant data is collected to understand demographic, family profile, income, and housing information for participants in the Public Housing, Section 8 Housing Choice Voucher, Section 8 Project Based Certificate, Section 8 Moderate Rehabilitation, and MTW Demonstration programs. This data also allows HUD to monitor the performance of programs and the, performance of public housing agencies that administer the programs.

Respondents: Public Housing Agencies, State and local governments, individuals and households.

Total Estimated Burden Matrix: Increase in burden expected to 5 minutes per response for a total of 244,493 hours.

Information collection | Number of respondents (PHA) (with responses) | * Average number of reponses per respondent (with responses) | Total annual responses | Minutes per response | Total hours | Regulatory reference (24 CFR) * see attached
Form HUD-50058 New Admission | 4,014 | 87 | 349,218 | 50 | 291,015 | 908.101
Form HUD-50058 Recertification | 4,014 | 583 | 2,340,162 | 30 | 1,170,081 | 908.101
Form HUD-50058 MTW New Admission | 39 | 529 | 20,631 | 50 | 17,192.50 | 908.101
Form HUD-50058 MTW Recertification | 39 | 4,018 | 156,702 | 30 | 78,351 | 908.101
Form HUD-50058 MTW Expansion New Admission | 100 | 87 | 8,700 | 50 | 7,250 | 908.101
Form HUD-50058 MTW Expansion Recertification | 100 | 583 | 58,300 | 30 | 29,150 | 908.101
Totals | 4,153 |  | 2,933,713 |  | 1,593,039.50 |
* Average Number of Responses per Respondents = Total Annual Responses/Number of Respondents.
Estimated annualized hourly cost to respondents (PHA); Form HUD-50058: To report using Form HUD-50058 Family Report, it will cost the average PHA $1,268.75 annually to enter and submit all data for New Admission and $5,101.25 annually for Recertification.
Estimated annualized hourly cost to respondents (PHA); Form HUD-50058 MTW: To report using Form HUD-50058 MTW Family Report, it will cost the average PHA $7,714.58 annually to enter and submit all data for New Admissions and $35,157.50 annually for Recertification.
Estimated annualized hourly cost to respondents (PHA); Form HUD-50058 MTW Expansion: To report using Form HUD-50058 MTW Expansion Family Report, it will cost the average PHA $1,268.75 annually to enter and submit all data for New Admissions and $5,101.25 annually for Recertification.

B. 60-Day Notice for Comment

HUD proposed changes in the 60-day notice to the HUD-50058 Family Report and necessary corresponding changes to the HUD-50058 MTW and HUD-50058 MTW Expansion Reports for consistency, along with a few minor revisions. More information about those changes are found in the February 8, 2023, 60-Day Notice of Proposed Information Collection: Family Report, MTW Family Report, MTW Expansion Family Report; OMB Control No. 2577-0083. 88 FR 8301.

In response to the 60-day notice, HUD received 16 public comments. HUD responds to comments received below for those comments received in response to specific questions asked by HUD in the 60-day notice, and HUD responses to other comments are in the 30-day notice Supporting Statement and can be found at www.reginfo.gov/public/do/PRAMain by finding this particular information collection by selecting “Currently under 30-day Review—Open for Public Comments” or by using the search function.

C. 30-Day Notice for Comment

In response to public comments on the 60-day notice, HUD is proposing a few minorhanges. HUD welcomes comments on the proposed changes or additional changes that should be considered when renewing this information collection, especially relevant to burden reduction. One significant change proposed in the 60-day notice which HUD maintains is moving the codes from the Forms themselves and placing them in the instruction booklet to ease the use of the Forms and allow for non-significant future updates. While HUD still updates the instruction booklet, HUD has made sample forms and instructions available for the public to see updated codes during the 30-day comment period. The forms and sample instructions can be viewed at www.reginfo.gov/public/do/PRAMain by finding this particular information collection by selecting “Currently under 30-day Review—Open for Public Comments” or by using the search function.

HUD-50058 Forms: The following provides a general overview of the changes that HUD is considering:

Section 1: Agency

HUD maintains the proposal from the 60-day notice to update the program types and add the unit real estate ID number to this section.

Section 2: Action

HUD maintains the proposal from the 60-day notice to update the codes for special programs and type of actions. For the type of action codes, HUD would remove the “Historical Adjustment” code, and add codes for PBV Transfer to Tenant-Based Voucher and two action types that will allow PHAs to record changes when the family will not receive an interim income reexamination due to Housing Opportunity Through Modernization Act of 2016, Public Law 114-201, (HOTMA) rulemaking—Household Composition Change Only; and Other Change, Non-Income Threshold. In addition, HUD would change the FSS participation question to a Supportive Service program participation question to align with the changes in Section 17. HUD also would add questions to list the primary reason for a family's end of participation, similar to the current HUD-50058 MTW Expansion, but add additional “Tenant Initiated” code and “Nonpayment of Rent” as a code. Lastly, HUD would add a question on reasons for a family's interim reexamination (already on the HUD-50058 MTW Expansion); the type of HCV voucher issued, if applicable; and a date a participant vacated an HCV unit, if applicable.

Section 3: Household

HUD at the 30-day notice is adding a new special status code at question 3o to allow PHAs to enter when there is a joint child custody arrangement. HUD has also decided to proceed with changes in the 30-day notice to the questions on Sex and Race asked at the 60-day comment period. HUD responds to comments received on changes to section 3 and explains the changes below:

Sex and Sexual Orientation

HUD asked for comment on updating the field for “Sex” to “Gender” and allow for inclusion of “other” responses. Similarly, HUD asked for comment on including a request for information about a household member's Sexual Orientation on the form. Some commenters supported improved demographic information collection on Lesbian, Gay, Bisexual, Transgender, and Queer (LGBTQ) participants by updating the field for gender and sexual orientation. Commenters requested HUD provide more information on how collecting information about gender identity and sexual orientation is relevant to the subsidy or qualifications for the program, and how HUD would use the data. One commenter suggested that data be used directly to enhance services and strengthen housing stability. Another commenter requested that respondents be told how the data would be used. Commenters asked what safeguards HUD would put in place to maintain security of individuals' information. One commenter asked whether the information would impact transferability and cross-program applications. One commenter asked how HUD planned to protect individuals and ensure protections in states where legislative efforts are specifically working against LGBTQ individuals, and other commenters noted concern for targeting of those in the LGBTQ community. One commenter noted HUD should consider the administrative burden of adding the questions. Commenters requested more guidance and training from HUD on implementing these changes and ensuring safeguards for the data. Specifically, guidance as requested on how to determine bedroom size eligibility for minors and training for staff on asking the questions appropriately.

One commenter suggested HUD engage advocacy organizations to consider how vital this information is at program enrollment versus at another point of time. One commenter noted the importance of the information for understanding LGBTQ older adults and their experience accessing housing, and that statistics support respondents wanting to answer Sexual Orientation and Gender Identity (SOGI) questions. One commenter noted without this data HUD would be unable to determine how to target limited agency resources to better serve the LGBTQ community. Another commenter suggested HUD make changes to other HUD forms.

While commenters supported more inclusive gender options, commenters also proposed additional alternatives for gender to include “did not disclose/did not know,” “other,” separating transgender and non-binary options, asking sex assigned at birth separately from current gender identity, intersex, or multiple selection. One commenter specifically noted the need to include “intersex” consistent with Executive Order 14075 “Advancing Equality for Lesbian, Gay, Bisexual, Transgender, Queer, and Intersex Individuals.” Some commenters opposed adding additional options, removing sex, or making it multiple select because it could impact occupancy standards. Commenters supportive of the change recognized the benefit of having the gender codes align with State requirements. Commenters also asked how the change to gender would work in determining bedroom sizes under HCV. The commenters also asked HUD to analyze the reliability of the data.

Commenters both supported and opposed adding questions about sexual orientation. One commenter recommended assessing sexual orientation at the household rather than individual level. While some commenters supported adding sexual orientation, commenters also proposed additional alternatives to include “did not disclose/did not know,” “other” or multiple selection. Another commenter felt that the information may create distrust with clients, that some clients may refrain from answering or accessing services, and that the information was not relevant to the application. One commenter noted that statistics show that including questions on sexual orientation makes individual's experiences seem valued and are not typically viewed as invasive. The commenter also noted that such questions should include clear privacy standards and provide answering the question as optional.

HUD appreciates the comments supporting the additional changes on collecting “Gender” and proposed changes to how to collect “gender identity” and “sex.” HUD recognizes the importance of aligning with other HUD programs and State law. HUD also recognizes the importance of allowing individuals to select multiple options and to change the options to allow more choice. HUD received many different proposals on options to provide and commenters flagged that adding more options could complicate statistical reporting, increase administrative burden, and impact unit size determinations. HUD also received concerns about making this change and question around the need for such information.

In an effort to address all these concerns and still align with other programs, consistent with HUD's proposed change, HUD will maintain a question on “Gender” and no longer collect “Sex.” HUD has always collected “Sex” for determining bedroom size but recognized that changes in State laws and for accurate representation of the people we serve that the current collection options around “Sex” were flawed. In addition, HUD has settled on adding a response for “X-Other/Non-Binary/Gender Non-Conforming” in addition to existing “Male” and “Female” choices. HUD believes this aligns closely to Census Bureau standards and provides an alternative consistent with States that recognize X gender codes. HUD also recognizes this change will require technical assistance and guidance to help implement, which HUD plans to provide.

HUD received comments both in support and opposition to adding a question on “sexual orientation.” Commenters raised questions on the need for the information, administrative burden, the impact on the privacy of respondents, analysis of the value of collecting the data, information about data security and accuracy, impact on transferability, invasiveness of question, and lack of trust that may result between PHAs and clients. In addition, commenters noted that HUD should provide best practices on how PHAs could have responsible data collection practices and training on how to collect the information and ensure no discriminatory impact on clients.

Given all the responses HUD received, HUD believes that collecting of this information at this point before addressing the multiple questions raised about impacts on privacy, accuracy, and appropriateness of this vehicle to collect this information and data security is premature. HUD will consider in what form this question should be added in the future and how HUD can address all the questions raised prior to adding this question.

Disability

HUD asked for comment on adding a “No Response” code to the Disability question. HUD received a couple of comments in support and other comments suggesting a “did not disclose” answer. One commenter noted that the change could impact allowances provided to tenant, require additional training for both providers and tenants, and could result in incorrect data collection and rent calculation.

HUD appreciates the general support on adding a “no disability” response option on the Forms and other suggested additions. HUD agrees with the commenter that raised concerns that making this change would require additional training and could result in incorrect data collection and rent calculation. Therefore, given the additional changes HUD is making to comply with HOTMA and the potential for errors when providing accurate allowances, HUD has decided to hold on making this change.

Race

HUD asked for comment on updating the codes for Race to include a new code for “Other”. HUD received comments in support of adding “Other” in the race field. Other commenters recommended changing “Other” to “Another Race” or “Some other race” because of the negative connotation of “Other.” Other commenters suggested the inclusion of “Middle East and North African,” “Did not disclose,” or “Multiracial.” Commenters supported HUD's effort to align with OMB's race and ethnicity statistical standards, and others requested that HUD ensure consistency across PIH and Multifamily. Commenters also asked that HUD consider the impact on uniform data in making changes.

HUD recognizes the importance of aligning our codes with Multifamily and government-wide efforts being undertaken by OMB. HUD agrees that there are many other options that could be added but believes aligning with other government and HUD information collections is important. Therefore, until OMB completes its update of race and ethnicity statistical standards HUD intends not to add the few suggested new categories. However, HUD appreciates the comments on changing “other” to “Some Other Race” and thinks doing so still aligns with Multifamily and other agency use of the word “Other” and limiting the number of changes. Having moved these codes to the Instruction Booklet, HUD can make additional changes in the future when OMB completes its update.

Alien Registration

HUD asked for comment on changing the Alien Registration number at the 60-day notice. HUD received a comment proposing that HUD maintain the Alien Registration Number because it is used to request SAVE verification and confirm immigration status and another comment that noted the PHA could not use the USCIS case number as a substitute in the SAVE system. Given the comments, HUD will not make a change to the form but intends to provide further guidance in the Instruction Booklet.

Section 4: Background at Admission

HUD maintains the proposal from the 60-day notice to include a date when the family was selected from the waiting list; if the family was formerly homeless; if the family transitioned out of an institutional setting; and whether there was a special non-waiting list admission.

Section 5: Unit To Be Occupied on Effective Date of Action

HUD maintains the proposal from the 60-day notice to add an urbanization code to accommodate Puerto Rican addresses; provide for the type of accessible unit identified by the PHA; and include whether the last inspection passed by the unit was an alternative inspection.

Section 6: Assets

HUD maintains the proposal from the 60-day notice to delineate actual income from imputed income for each family member consistent with HUD's HOTMA rulemaking. HUD, at this 30-day notice, proposes to include a new field that would ask whether such asset listed was included in new family assets. Additional instructions on this will be provided in the 50058 Instruction Booklet.

Section 7: Income

HUD is maintaining the 60-day notice proposal to add questions required to be supplied by the PHA to help determine whether a family is subject to HOTMA's public housing over-income rule: what the applicable over-income limit for families of the application's size is; whether the family is over-income; and the date the over-income family began the 24 consecutive month grace period. These questions have been moved to Section 7, since PHAs will be asked to compare the family's annual income to the over-income limit.

Section 8: Expected Income Per Year

HUD, at this 30-day notice, is proposing to expand the “Permissive Deductions” question at 8b beyond Public Housing only. HUD maintains the proposal from the 60-day notice to rename this section “Deductions and Allowances.” HUD notes this name change follows an identical proposal already made on the HUD-50058-MTW-Expansion. HUD believes that this term accurately reflects the content of the section and clearly delineates it from the preceding section.

HUD also maintains the proposals from the 60-day notice to include a new question for families to indicate whether a family is eligible for a medical hardship expense, childcare hardship expense or both, consistent with HUD's HOTMA rulemaking.

Section 10: Public Housing and Turnkey III

HUD maintains the proposal from the 60-day notice to revise Section 10 heading to remove “and Turnkey III” and remove the income-based ceiling rent question and replace the “income-based ceiling rent” reference with “flat rent.”

Section 11: Section 8: Project Based Certificates and Vouchers

HUD, at this 30-day notice, is proposing to include items requesting information on whether the family received mobility-related services; whether a security deposit was paid by the PHA on behalf of the family; and whether the family received additional financial assistance consistent with the 60-day notice proposed changes to Section 12.

HUD maintains the proposal from the 60-day notice to revise Section 11 heading to remove reference to “Certificates” and add a question to include the HAP Contract ID Number, as assigned by the PBV HAP Contract Collection module in the Housing Information Portal (HIP).

Section 12: Housing Choice Vouchers: Tenant Based Vouchers

HUD maintains the proposal from the 60-day notice to remove the question about whether the family qualifies as “Hard to House.” In addition, HUD maintains the request for information on whether the family received mobility-related services; whether a security deposit was paid by the PHA on behalf of the family; and whether the family received a higher payment standard as reasonable accommodation. In addition, HUD maintains the request to add from the HUD-50058 MTW Expansion, the questions about additional Payments, not HAP Payments, for tenant-based voucher family and financial incentives for property owners.

Section 17: Family Self-Sufficiency (FSS)/Welfare to Work (WtW) Voucher Addendum

HUD maintains the proposal from the 60-day notice to revise Section 17 heading to read “Supportive Services Programs,” and remove the Welfare to Work voucher questions. Additionally, HUD maintains the other changes to require information on effective date; add options to the question of why a participant exited the FSS program; information on employment; services for other supportive services programs, such as ROSS and Jobs Plus; amend the list of benefits a participating family receives; and update the services needed by/provided to participating families. In addition, HUD maintains the proposal to remove the questions about who provides the services, and whether the family received a selection preference.

HUD-50058 MTW and HUD-50058 MTW Expansion Form: HUD maintains the proposal from the 60-day notice to make conforming changes mentioned above. In addition, HUD maintains the proposal to: remove the date of admission to the MTW program because it was unnecessary; add in a question on the total homeownership assistance payment (HAP); and to remove reference to “Local, Non-Traditional Assistance.”

D. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2023-12162 Filed 6-6-23; 8:45 am]

BILLING CODE 4210-67-P